DEPARTMENT OF AGRICULTURE

Forest Service

Siuslaw Resource Advisory Committee

AGENCY: Forest Service, USDA.

ACTION: Notice of Meeting.

SUMMARY: The Siuslaw Resource Advisory Committee will meet in Corvallis, OR. The purpose of the meeting is RAC FY12 Business, Elect Chairperson, Set FY12 Overhead Rate, Information Share, Public Forum, Project Selections.

DATES: The meeting will be held July 14, 2011 beginning at 8 a.m.

ADDRESSES: The meeting will be held at the Corvallis Forestry Sciences Lab, 3200 SW., Room 297, Jefferson Way, Corvallis, OR 97331.

FOR FURTHER INFORMATION CONTACT: Joni Quarnstrom, Siuslaw National Forest, 541/750-7075 or write to Forest Supervisor, Siuslaw National Forest, 4077 SW., Research Way, Corvallis, OR 97339.

SUPPLEMENTARY INFORMATION: A public input period will begin before 2012 project review. The meeting is expected to adjourn at 5 p.m.

Dated: June 20, 2011.
Jeremiah C. Ingersoll,
Forest Supervisor.

[FR Doc. 2011-15974 Filed 6-24-11; 8:45 am]

BILLING CODE 3410-11-P